DEPARTMENT OF JUSTICE

Notice of Lodging of Proposed Consent Decree Under the Comprehensive Environmental Response, Compensation, and Liability Act

On September 27, 2019, the Department of Justice lodged a proposed consent decree with the United States District Court for the District of New Jersey in the lawsuit entitled United States v. Mahogany Company of Mays Landing, Inc., Civil Action No. 1:19-cv-18481-RMB-AMD. In the filed complaint, the United States, on behalf of the U.S. Environmental Protection Agency (“EPA”), alleges that Mahogany Company of Mays Landing, Inc. (“Mahogany”) is liable under Section 107 of the Comprehensive Environmental Response, Compensation, and Liability Act, 42 U.S.C. 9607(a), for past response costs EPA incurred to respond to releases and threatened releases of hazardous substances into the environment at the Superior Barrel and Drum Site located in Gloucester County, New Jersey. The proposed consent decree requires Mahogany to pay $375,000, in five annual installments, with interest, to EPA, in settlement of the United States' claim for past response costs against Mahogany.

The publication of this notice opens a period for public comment on the consent decree. Comments should be addressed to the Assistant Attorney General, Environment and Natural Resources Division, and should refer to United States v. Mahogany Company of Mays Landing, Inc., D.J. Ref. No. 90-11-3-11831/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $5.00 (25 cents per page reproduction cost), payable to the United States Treasury.

Jeffrey Sands,
Assistant Section Chief, Environmental Enforcement Section, Environment & Natural Resources Division.

[FR Doc. 2019-21578 Filed 10-3-19; 8:45 am]

BILLING CODE 4410-15-P